ENVIRONMENTAL PROTECTION AGENCY

40 CFR Part 300

[FRL-8220-3]

National Oil and Hazardous Substance Pollution Contingency Plan; National Priorities List

AGENCY: Environmental Protection Agency (EPA).

ACTION: Notice of intent to delete the Waverly Groundwater Contamination Site (Site) from the National Priorities List (NPL).

SUMMARY: The EPA, Region 7, is issuing a notice of intent to delete the Site located near Waverly, Nebraska, from the NPL and requests public comments on this notice of intent. The NPL, promulgated pursuant to Section 105 of the Comprehensive Environmental Response, Compensation, and Liability Act (CERCLA) of 1980, as amended, is found in Appendix B of 40 CFR part 300 of the National Oil and Hazardous Substances Pollution Contingency Plan (NCP). The EPA and the State of Nebraska through the Nebraska Department of Environmental Quality (NDEQ) have determined that all appropriate response actions under CERCLA have been completed. However, this deletion does not preclude future actions under Superfund.

DATES: Comments concerning this site must be received by October 19, 2006.

ADDRESSES: Submit your comments, identified by Docket ID No. EPA-HQ-SFUND-1986-0005, by one of the following methods:

• http://www.regulations.gov—Follow the on-line instruction for submitting comments.

• E-mail: hirter.fritz@epa.gov.

• Fax: 913-551-9130

• Mail: Mr. Fritz Hirter, Community Involvement Coordinator, U.S. EPA, Region 7, 901 N 5th Street, Kansas City, Kansas 66101.

• Hand Delivery: 901 N 5th Street, Kansas City, Kansas.

Such deliveries are only accepted during the Docket's normal hours of operation, and special arrangements should be made for deliveries of boxed information.

Instructions: Direct your comments to Docket ID No. EPA-HQ-SFUND-1986-0005. EPA's policy is that all comments received will be included in the public docket without change and may be made available online at http://www.regulations.gov, including any personal information provided, unless the comment includes information claimed to be Confidential Business Information (CBI) or other information disclosure of which is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the EPA's Region 7 Superfund Records Center, 901 N 5th Street, Kansas City, Kansas 66101, and the Waverly City Hall, Lancashire Street, Waverly, Nebraska 68462-1131. Region 7's Docket Facility is open from 8 a.m. to 4 p.m. by appointment, Monday through Friday, excluding legal holidays. The EPA Docket telephone number is 913-551-7166. The Waverly City Hall is open from 8 a.m. to 4 p.m., Monday through Friday, excluding legal holidays, or by appointment. The Waverly City Hall telephone number is 402-786-2312.

FOR FURTHER INFORMATION CONTACT: Mr. Fritz Hirter, Community Involvement Coordinator (CIC), U.S. Environmental Protection Agency, Region 7, 901 N 5th Street, Kansas City, Kansas 66101, telephone number: 1-800-223-0425 or (913) 551-7130; fax number: 913-551-9130; e-mail address: hirter.fritz@epa.gov.

SUPPLEMENTARY INFORMATION: In the “Rules and Regulations” Section of today's Federal Register, EPA is publishing a direct final notice of deletion of the Site without prior notice of intent to delete because EPA views this as a noncontroversial revision and anticipates no adverse comment. The EPA has explained our reasons for this deletion in the preamble to the direct final deletion. If the EPA receives no adverse comment(s) on the direct final notice of deletion, the EPA will take no further action on this notice of intent to delete. If EPA receives adverse comment(s), EPA will withdraw the direct final notice of deletion and it will not take effect. The EPA will, as appropriate, address all public comments in a subsequent final deletion notice based on this notice of intent to delete. The EPA will not institute a second comment period on this action. Any parties interested in commenting must do so at this time. For additional information, see the direct final notice of deletion which is located in the Rules section of this Federal Register.

Dated: September 7, 2006.
William W. Rice,
Acting Regional Administrator, Region 7.

[FR Doc. E6-15337 Filed 9-18-06; 8:45 am]

BILLING CODE 6560-50-P